DEPARTMENT OF ENERGY

Federal Energy Regulatory Commission

[Docket No. RP97-71-027]

Transcontinental Gas Pipe Line Corporation; Notice of Refund Report

May 1, 2001.

Take notice that on April 25, 2001 Transcontinental Gas Pipe Line Corporation (Transco) tendered for filing with the Commission a refund report showing that on November 1, 2000 and March 26, 2001, Transco submitted refunds/surcharges to all affected shippers in docket No. RP97-71-000, et. al. Transco states that the total refund amounts, including interest, were $89,302,453.55 and $25,132,257.36, respectively.

Transco states that copies of the filing are being mailed to its affected customers and interested State Commissions.

Any person desiring to protest said filing should file a protest with the Federal Energy Regulatory Commission, 888 First Street, NE., Washington, DC 20426, in accordance with Section 385.211 of the Commission's Rules and Regulations. All such protests must be filed on or before May 8, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-11349 Filed 5-4-01; 8:45 am]

BILLING CODE 6717-01-M